DEPARTMENT OF TRANSPORTATION

National Highway Traffic Safety Administration

[Docket No. NHTSA-2019-0001]

Notice and Request for Comments

AGENCY: National Highway Traffic Safety Administration (NHTSA), Department of Transportation (DOT).

ACTION: Notice and request for comments.

SUMMARY: The Department of Transportation (DOT) invites public comments about our intention to request the Office of Management and Budget (OMB) approval to renew an information collection. Before a Federal agency can collect certain information from the public, it must receive approval from the Office of Management and Budget (OMB). Under procedures established by the Paperwork Reduction Act of 1995, before seeking OMB approval, Federal agencies must solicit public comment on proposed collections of information, including extensions and reinstatement of previously approved collections.

DATES: Written comments should be submitted by April 2, 2019.

ADDRESSES: You may submit comments [identified by Docket No. DOT-NHTSA-2019-0001] through one of the following methods:

• Federal eRulemaking Portal: http://www.regulations.gov. Follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Jeremiah Kinsman, Office of Emergency Medical Services (NPD-400), Room W44-321, 1200 New Jersey Avenue SE, Washington, DC 20590. Mr. Kinsman's telephone number is (202) 366-2795. Please identify the relevant collection of information by referring to its OMB Control Number.

SUPPLEMENTARY INFORMATION: Title: National Emergency Medical Services Information System (NEMSIS)—State Submission to National EMS Database

OMB Control Number: 2127-0717.

Type of Request: Collection of Emergency Medical Services Data.

Abstract: The U.S. Department of Transportation, National Highway Traffic Safety Administration (NHTSA) was established by Congress to save lives, prevent injuries, and reduce economic costs due to motor vehicle crashes through education, research, safety standards, and enforcement activity. Within NHTSA, the Office of Emergency Medical Services is responsible for advancing a national vision for emergency medical services (EMS) through the development and implementation of targeted projects to benefit patient care, EMS practitioner safety and support of EMS research. The NHTSA Office of EMS also coordinates with the Federal and state highway safety community to ensure that EMS is equipped and prepared to carry out its mission of preventing death and reducing serious injuries after traffic crashes. NHTSA is proposing to continue voluntary collection of limited EMS information from U.S. States and Territories. There are no Federal mandates or requirements for submission of EMS information from U.S. States and Territories. The information is transmitted from local EMS agencies to State EMS data systems, and then onto NHTSA's National EMS Database via an automated “machine-to-machine” process that uses Web Services. The information is transmitted from the point-of-care to states and NHTSA's National EMS Database in near real-time. The information collected by the National EMS Database is a de-identified subset of the data already being collected for use by state and territorial EMS Offices. The National EMS Database collects information that describes EMS agencies, the activation and response of individual EMS units to an emergency, emergency care provided on scene and during transport to a health facility, transport decision, disposition of the patient and incident, and EMS system times such as response time. Personal identifiable information (PII) such as the patient's name, patient's home address, patient's date of birth, patient's social security number, and patient's medical record number are not collected by the National EMS Database. The information collected by the National EMS Database is available to the public. The National EMS Database provides NHTSA's Office of EMS with information necessary to inform national EMS and first responder programs, projects, and initiatives; and determine the impact EMS has on highway safety and post-crash care. The information is also used by EMS and public health researchers to develop evidence for best practices in EMS operations and prehospital clinical care, and by local EMS agencies and state offices of EMS for performance improvement and benchmarking.

Affected Public: State Governments.

Estimated Number of Respondents: 56.

Frequency: Annually.

Number of Responses: N/A.

Estimated Total Annual Burden Hours: 1008.00.

Estimated Total Annual Burden Cost: $49,624.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: 44 U.S.C. Section 3506 (c)(2)(A).

Issued in Washington, DC, on January 29, 2019.
Jon Krohmer,
Acting Associate Administrator, Research and Program Development.

[FR Doc. 2019-00623 Filed 1-31-19; 8:45 am]

BILLING CODE 4910-59-P